DEPARTMENT OF ENERGY

Federal Energy Regulatory Commission

Combined Notice of Filings #1

Take notice that the Commission received the following electric corporate filings:

Docket Numbers: EC13-53-000.

Applicants: LWP Lessee, LLC.

Description: Application of LWP Lessee, LLC for Authorization Under Section 203 of the Federal Power Act and Request for Waivers, Confidential Treatment, and Expedited Consideration.

Filed Date: 12/26/12.

Accession Number: 20121226-5113.

Comments Due: 5 p.m. ET 1/16/13.

Take notice that the Commission received the following electric rate filings:

Docket Numbers: ER10-2302-004.

Applicants: Public Service Company of New Mexico.

Description: Public Service Company of New Mexico submits its Triennial Market Power Update pursuant to Order No. 697.

Filed Date: 12/21/12.

Accession Number: 20121226-0200.

Comments Due: 5 p.m. ET 2/19/13.

Docket Numbers: ER10-2474-003; ER10-2475-003.

Applicants: Sierra Pacific Power Company.

Description: Updated Market Power Analysis for Southwest Region of Sierra Pacific Power Company, et al.

Filed Date: 12/26/2012.

Accession Number: 20121226-5111.

Comments Due: 5 p.m. ET 2/25/13.

Docket Numbers: ER10-3081-001.

Applicants: Equilon Enterprises LLC.

Description: Equilon Enterprises LLC submits Notice of Change in Status to be effective 12/27/2012.

Filed Date: 12/26/12.

Accession Number: 20121226-5100.

Comments Due: 5 p.m. ET 1/16/13.

Docket Numbers: ER10-3081-002.

Applicants: Equilon Enterprises LLC.

Description: Equilon Enterprises LLC submits Notice of Change in Status and Request for Designation as a Category 1 Seller.

Filed Date: 12/26/12.

Accession Number: 20121226-5109.

Comments Due: 5 p.m. ET 1/16/13.

Docket Numbers: ER11-3731-004.

Applicants: LWP Lessee, LLC.

Description: Notice of Non-Material Change in Status of LWP Lessee, LLC.

Filed Date: 12/26/12.

Accession Number: 20121226-5108.

Comments Due: 5 p.m. ET 1/16/13.

Docket Numbers: ER13-623-000.

Applicants: New England Power Company.

Description: New England Power Company submits tariff filing per 35.13(a)(2)(iii: Service Agreement No. TSA-NEP-85 re G-33 Line Emergency Switching Instructions to be effective 4/9/2012.

Filed Date: 12/26/12.

Accession Number: 20121226-5043.

Comments Due: 5 p.m. ET 1/16/13.

Take notice that the Commission received the following qualifying facility filings:

Docket Numbers: QF13-217-000.

Applicants: Coleman, Timothy.

Description: Form 556—Notice of Self-Certification for Qualifying Cogeneration Facility Status of Timothy Coleman.

Filed Date: 12/27/12.

Accession Number: 20121227-5044.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2012.
Nathaniel J. Davis, Sr.,
Deputy Secretary.

[FR Doc. 2013-00410 Filed 1-10-13; 8:45 am]

BILLING CODE 6717-01-P